DEPARTMENT OF HEALTH AND HUMAN SERVICES

Food and Drug Administration

[Docket No. FDA-2025-N-1731]

General and Plastic Surgery Devices Panel of the Medical Devices Advisory Committee; Amendment of Notice—Establishment of Public Docket; Request for Comments—Dermal Fillers

AGENCY: Food and Drug Administration, HHS.

ACTION: Notice.

SUMMARY: The Food and Drug Administration (FDA) is announcing an amendment to the notice of meeting of the General and Plastic Surgery Devices Panel of the Medical Devices Advisory Committee (the Committee). This meeting was announced in the Federal Register of July 3, 2025. The amendment is being made to reflect a change in the ADDRESSES and SUPPLEMENTARY INFORMATION portions of the document. There are no other changes.

FOR FURTHER INFORMATION CONTACT: Evella Washington, Center for Devices and Radiological Health, Food and Drug Administration, 10903 New Hampshire Ave., Bldg. 66, Rm. 2404, Silver Spring, MD 20993-0002, or FDA Advisory Committee Information Line, 1-800-741-8138 (301-443-0572 in the Washington, DC area). Please call the Information Line for up-to-date information on this meeting.

SUPPLEMENTARY INFORMATION: In the Federal Register of July 3, 2025 (90 FR 29570), FDA announced that a meeting of the General and Plastic Surgery Devices Panel of the Medical Devices Advisory Committee would be held on August 13, 2025. On page 29570, in the first column, “The https://www.regulations.gov electronic filing system will accept comments until 11:59 p.m. Eastern Time at the end of August 13, 2025,” the date portion of the document is changed to read as follows:

The https://www.regulations.gov electronic filing system will accept comments until 11:59 p.m. Eastern Time at the end of September 13, 2025.

On page 29571, in the first column, “Background material and the link to the online teleconference and/or video conferencing meeting will be available at the location of the advisory committee meeting and at https://www.fda.gov/AdvisoryCommittees/Calendar/default.html. Scroll down to the appropriate advisory committee meeting link,” the link to the website portion of the document is changed to read as follows:

Background material and the link to the online teleconference and/or video conferencing meeting will be available at the location of the advisory committee meeting and at https://www.fda.gov/advisory-committees/advisory-committee-calendar. Scroll down to the appropriate advisory committee meeting link.

This notice is issued under the Federal Advisory Committee Act (5 U.S.C. 1001 et seq.) and 21 CFR part 14, relating to the advisory committees.

Dated: July 25, 2025.
Grace R. Graham,
Deputy Commissioner for Policy, Legislation, and International Affairs.

[FR Doc. 2025-14346 Filed 7-29-25; 8:45 am]

BILLING CODE 4164-01-P